ENVIRONMENTAL PROTECTION AGENCY

[ER-FRL-6644-6]

Environmental Impact Statements; Notice of Availability

Responsible Agency: Office of Federal Activities, General Information (202) 260-7167 or http://www.epa.gov/compliance/nepa/.

Weekly receipt of Environmental Impact Statements

Filed October 06, 2003 Through October 10, 2003

Pursuant to 40 CFR 1506.9.

EIS No. 030460, Final EIS, AFS, MT, Windmill Timber Sale and Road Decommissioning Project, Timber Harvesting, Road Construction and Road Decommissioning, Mill Creek Drainage, Absaroka Mountain Range, Gallatin National Forest, Park County, MT, Due: November 17, 2003, Contact: Mike Dettori (406) 222-1892.

This document is available on the Internet at: http://www.fs.fed.us/rl/gallatin.

EIS No. 030461, Final EIS, FHW, WY, US 287/26 Improvements Project, Moran Junction to 12 miles west of Dubois to where the roadway traverses thru the Bridger-Teton and Shoshone National Forests and Grand Teton National Park, NPDES and US Army COE Section 404 Permits Issuance, Teton and Fremont Counties, WY, Due: December 19, 2003, Contact: Galen W. Hesterberg (307) 772-2012.

EIS No. 030462, Draft EIS, AFS, AZ, Rodeo-Chediski Fire Salvage Project, Timber Harvest of Merchantable Dead Trees as Sawtimber and Products other than Lumber (POL), Implementation, Apache-Sitgreaves and Tonto National Forest, Apache, Coconino and Navajo Counties, AZ, Due: December 1, 2003, Contact: Jimmy E. Hibbetts (928) 333-4301.

EIS No. 030463, Draft EIS, FHW, NY, Cumberland Head Connector Road Construction, County Road 57 between US 9 and the Peninsula (known as the Parkway), Funding, Town of Plattsburg, Clinton County, NY, Due: December 1, 2003, Contact: Robert Arnold (518) 431-4127.

EIS No. 030464, Draft EIS, AFS, MT, Helena National Forest Noxious Weed Treatment Project, Implementation, Lewis and Clark, Powell, Jefferson, Broadwater and Meagher Counties, MT, Due: December 1, 2003, Contact: Dea Nelson (406) 266-3405.

EIS No. 030465, Final EIS, COE, CA, East Cliff Drive Bluff Protection and Parkway Project, Alternatives Evaluation for Coastal Bluff Erosion Protection, City of Santa Cruz, Santa Cruz County, CA, Due: November 17, 2003, Contact: Yvonne LeTellier (415) 977-8466.

EIS No. 030466, Draft EIS, BLM, OR, Upper Deschutes Resource Management Plan, Implementation, Deschutes, Klamath, Jefferson and Cook Counties, OR, Due: January 15, 2004, Contact: Mollie Chaudet (541) 416-6700.

EIS No. 030467, Draft EIS, AFS, OR, Monument Fire Recovery Project, Whitman Unit—Wallowa—Whitman National Forest (WWNF) Timber Harvest of Fire Killed/Dying Trees, Reforestation, Recovery of Herbaceous, Native Vegetation and Maintenance or Improvement of Water Quality, Implementation, Baker County, OR, Due: December 1, 2003, Contact: Roger LeMaster (541) 523-4476.

EIS No. 030468, Draft Supplement, AGS, OR, Lemolo Watershed Projects, Updated and New Information concerning Recommendations Steamed from the Diamond Lake/Lemolo Lake Watershed Analysis (WA), Implementation, Umpqua National Forest, Diamond Lake Ranger District, Douglas County, OR, Due: December 1, 2003, Contact: Steve Buskie (541) 498-2531.

EIS No. 030469, Final Supplement, FHW, WA, Elliott Bridge No. 3166 Replacement, Updated and Reevaluated Information concerning Replacement of the 149th Avenue SE Crossing over the Cedar River, Funding, US CGD Bridge Permit and US Army COE Section 404 Permit Issuance, City of Renton, King County, WA, Due: November 17, 2003, Contact: James A. Leonard (360) 753-9408.

EIS No. 030470, Draft EIS, FHW, TX, Grand Parkway/TX-99 Segment F-1 Highway Construction, US 290 to TX-249, Funding and US Army COE Section 404 Permit Issuance, Harris, Montgomery, Fort Bend, Liberty, Brazoria, Galveston and Chambers Counties, TX, Due: January 16, 2004, Contact: John R. Mack (512) 536-5960.

EIS No. 030471, Draft EIS, FHW, WI, WI-83 Highway Improvements, County NN in Mukwonago to WI-16 in Hartland, Funding and US Army COE Section 404 Permit Issuance, Waukesha County, WI, Due: December 4, 2003, Contact: David Platz (608) 829-7509.

EIS No. 030472, Draft EIS, COE, AL, Choctaw Point Terminal Project, Construction and Operation of a Container Handling Facility, Department of the Army (DA) Permit Issuance, Mobile County, AL, Due: January 5, 2004, Contact: Dr. Susan I. Rees (251) 694-4141.

EIS No. 030473, Final EIS, FHW, WA, I-5 Toutle Park Road to Maytown Transportation Improvements, Funding, US Army COE Section 404 Permit, US Coast Guard Permit and NPDES Permit Issuance, Cowlitz, Lewis and Thurston Counties, WA, Due: November 24, 2003, Contact: Michael Kulbacki (360) 753-9413.

EIS No. 030474, Draft EIS, NOA, HI, GU, AS, Bottomfish and Seamount Groundfish Fisheries Conservation and Management Plan, Implementation, US Economic Zone (EEZ) around the State of Hawaii, Territories of Samoa and Guam, Commonwealth of the Northern Mariana and various Islands and Atolls known as the US Pacific remove island areas, HI, GU and AS, Due: December 1, 2003, Contact: Kitty M. Simonds (808) 522-8220.

EIS No. 030475, Draft EIS, BLM, CO, Colorado Canyons National Conservation Area and Black Ridge Canyons Wilderness Resource Management Plan, Implementation, Mesa County, CO, Due: January 31, 2004, Contact: Jane Ross (970) 244-3007.

EIS No. 030476, Draft EIS, COE, AL, Arlington and Garrows Bend Channels and Adjacent Area restoration, Maintenance Dredging, City of Mobile, Mobile County, AL, Due: January 5, 2004, Contact: Dr. Susan Ivester Rees (215) 694-4141.

Amended Notices

EIS No. 030389, Draft EIS, FHW, NC, Greensboro-High Point Road (NC -1486-NC-4121) Improvements from US 311 (I-74) to Hilltop Road (NC-1404), Cities of Greensboro and High Point, the Town of Jamestown, Guilford County, NC, Due: November 7, 2003, Contact: John F. Sullivan (919) 856-4346.

Revision of FR Notice Published on 8/28/03: CEQ Comment Period Ending 10/14/2003 has been Extended to 11/7/2003.

EIS No. 030401, Draft EIS, FRC, OR, Pelton Round Butte Hydroelectric Project, (FERC No. 2030-0306), Application for a New License for Existing 366.82-megawatt Project, Deschutes River, OR, Due: December 31, 2003, Contact: Nicholas JayJack (202) 502-6073.

Revision of FR Notice Published on 9/5/2003: CEQ Comment Period Ending on 10/20/2003 has been Extended to 12/31/2003.

Dated: October 14, 2003.
Ken Mittelholtz,
Environmental Protection Specialist, Office of Federal Activities.

[FR Doc. 03-26325 Filed 10-16-03; 8:45 am]

BILLING CODE 6560-50-M